DEPARTMENT OF TRANSPORTATION

Federal Aviation Administration

14 CFR Part 39

[Docket No. FAA-2014-0433; Directorate Identifier 94-ANE-39-AD; Amendment 39-18041; AD 2014-24-08]

RIN 2120-AA64

Airworthiness Directives; Rolls-Royce plc Turbofan Engines

AGENCY: Federal Aviation Administration (FAA), DOT.

ACTION: Final rule.

SUMMARY: We are superseding airworthiness directive (AD) 98-07-07 for all Rolls-Royce plc (RR) RB211-535E4 and RB211-535E4-B turbofan engines. AD 98-07-07 required removing certain part number (P/N) low-pressure (LP) fuel filter-to-high-pressure (HP) fuel pump tube assemblies and installing flexible LP fuel filter-to-HP fuel pump tube assemblies. This AD expands the applicability of AD 98-07-07 to include the RB211-535E4-C-37 turbofan engine and requires removal from service of additional P/N LP fuel filter-to-high-pressure HP fuel pump tube assemblies. This AD was prompted by reports of fuel leaks that have resulted in a number of engine in-flight shutdowns. We are issuing this AD to prevent loss of fuel supply to the engine, which could lead to an in-flight shutdown of one or more engines, loss of thrust control, and damage to the airplane.

DATES: This AD is effective January 6, 2015.

ADDRESSES: For service information identified in this AD, contact Rolls-Royce plc, Corporate Communications, P.O. Box 31, Derby, England, DE24 8BJ; phone: 011-44-1332-242424; fax: 011-44-1332-249936; email: http://www.rolls-royce.com/contact/civil_team.jsp; Internet: https://www.aeromanager.com. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2014-0433; or in person at the Docket Management Facility between 9 a.m. and 5 p.m., Monday through Friday, except Federal holidays. The AD docket contains this AD, the mandatory continuing airworthiness information, regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Kenneth Steeves, Aerospace Engineer, Engine Certification Office, FAA, Engine & Propeller Directorate, 12 New England Executive Park, Burlington, MA 01803; phone: 781-238-7765; fax: 781-238-7199; email: kenneth.steeves@faa.gov.

SUPPLEMENTARY INFORMATION:

Discussion

We issued a notice of proposed rulemaking (NPRM) to amend 14 CFR part 39 to supersede AD 98-07-07, Amendment 39-10426 (63 FR 18119, April 14, 1998), (“AD 98-07-07”). AD 98-07-07 applied to the specified products. The NPRM published in the Federal Register on July 24, 2014 (79 FR 42989). The NPRM proposed to expand the applicability of AD 98-07-07 to include the RB211-535E4-C-37 turbofan engine and added two additional P/Ns identified for removal.

Comments

We gave the public the opportunity to participate in developing this AD. We considered the comments received.

Support for the NPRM as Proposed

United Airlines supports issuing the NPRM (79 FR 42989, July 24, 2014) as proposed.

Request To Change the Compliance

FedEx Express requested that the proposed AD require removal of only fuel tube assemblies, P/Ns 163521538 and 163521545. These are the only fuel tube assemblies that are required to be removed by RR Service Bulletin No. RB.211-73-H131 and European Aviation Safety Agency AD 2014-0123.

We do not agree. This AD will supersede AD 98-07-07. AD 98-07-07 required the removal of fuel tube assemblies, P/Ns UL16692 and AE709623-1. Continuing to include these P/Ns would ensure, in the unlikely event that there is an engine containing fuel tube assemblies, P/Ns UL16692 and AE709623-1, that these fuel tube assemblies would still be removed. We did not change this AD.

Change to the Compliance

We changed paragraph (e)(2) of this AD to mandate installation of LP fuel filter-to-HP fuel pump tube assemblies eligible for installation. Paragraph (e)(2) was changed to support the Costs of Compliance as proposed in the NPRM (79 FR 42989, July 24, 2014).

Conclusion

We reviewed the available data, including the comments received, and determined that air safety and the public interest require adopting this AD with the changes described previously. We determined that these changes will not increase the economic burden on any operator or increase the scope of this AD.

Costs of Compliance

We estimate that this AD affects 500 engines installed on airplanes of U.S. registry. We also estimate that it will take about 7.33 hours per engine to comply with this AD. The average labor rate is $85 per hour. Required parts cost about $10,000 per engine. Based on these figures, we estimate the cost of this AD on U.S. operators to be $5,311,525.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 98-07-07, Amendment 39-10426 (63 FR 18119, April 14, 1998), and adding the following new AD:

2014-24-08 Rolls-Royce plc: Amendment 39-18041; Docket No. FAA-2014-0433; Directorate Identifier 94-ANE-39-AD.

(a) Effective Date

This AD is effective January 6, 2015.

(b) Affected ADs

This AD supersedes AD 98-07-07, Amendment 39-10426 (63 FR 18119, April 14, 1998).

(c) Applicability

This AD applies to all Rolls-Royce plc (RR) RB211-535E4-37, RB211-535E4-B-37, and RB211-535E4-C-37 turbofan engines with low-pressure (LP) fuel filter-to-high-pressure (HP) fuel pump tube assembly, part number (P/N) UL16692, AE709623-1, 163521538, or 163521545, installed.

(d) Unsafe Condition

This AD was prompted by reports of fuel leaks that have resulted in a number of engine in-flight shutdowns. We are issuing this AD to prevent loss of fuel supply to the engine, which could lead to an in-flight shutdown of one or more engines, loss of thrust control, and damage to the airplane.

(e) Compliance

Comply with this AD within the compliance times specified, unless already done.

(1) After the effective date of this AD, remove from service all LP fuel filter-to-HP fuel pump tube assemblies, P/Ns UL16692, AE709623-1, 163521538, and 163521545, at the next part removal or during the next engine shop visit, whichever occurs first.

(2) Install LP fuel filter-to-HP fuel pump tube assemblies eligible for installation.

(f) Definition

For the purpose of this AD, an “engine shop visit” is the induction of an engine into the shop for maintenance.

(g) Alternative Methods of Compliance (AMOCs)

The Manager, Engine Certification Office, may approve AMOCs for this AD. Use the procedures found in 14 CFR 39.19 to make your request. You may email your request to: ANE-AD-AMOC@faa.gov.

(h) Related Information

(1) For more information about this AD, contact Kenneth Steeves, Aerospace Engineer, Engine Certification Office, FAA, Engine & Propeller Directorate, 12 New England Executive Park, Burlington, MA 01803; phone: 781-238-7765; fax: 781-238-7199; email: kenneth.steeves@faa.gov.

(2) Refer to MCAI European Aviation Safety Agency AD 2014-0123, dated May 15, 2014, for more information. You may examine the MCAI in the AD docket on the Internet at http://www.regulations.gov/#!documentDetail;D=FAA-2014-0433-0005.

(i) Material Incorporated by Reference

None.

Issued in Burlington, Massachusetts, on November 20, 2014.
Colleen M. D'Alessandro,
Assistant Directorate Manager, Engine & Propeller Directorate, Aircraft Certification Service.

[FR Doc. 2014-28189 Filed 12-1-14; 8:45 am]

BILLING CODE 4910-13-P